FEDERAL MARITIME COMMISSION

Notice of Agreements Filed

The Commission hereby gives notice of the filing of the following agreements under the Shipping Act of 1984. Interested parties may submit comments on an agreement to the Secretary, Federal Maritime Commission, Washington, DC 20573, within ten days of the date this notice appears in the Federal Register. Copies of agreements are available through the Commission's Office of Agreements (202-523-5793 or tradeanalysis@fmc.gov).

Agreement No.: 010776-129.

Title: Asia North America Eastbound Rate Agreement.

Parties: American President Lines, Ltd.; APL Co. Pte Ltd.; Hapag-Lloyd Container Line GmbH; Kawasaki Kisen Kaisha, Ltd.; Mitsui O.S.K. Lines, Ltd.; A. P. Moller-Maersk A/S; Nippon Yusen Kaisha Line; Orient Overseas Container Line Limited; P&O Nedlloyd B.V.; and P&O Nedlloyd Limited.

Filing Party: David F. Smith, Esq.; Sher & Blackwell; 1850 M Street, NW.; Suite 900; Washington, DC 20036.

Synopsis: The modification extends the suspension of the conference through January 31, 2006.

Agreement No.: 010977-058.

Title: Hispaniola Discussion Agreement.

Parties: Crowley Liner Services; Seaboard Marine Ltd.; Tropical Shipping and Construction Co. Ltd.; and Frontier Liner Services.

Filing Party: Wayne R. Rohde, Esq.; Sher & Blackwell; 1850 M Street, NW.; Suite 900; Washington, DC 20036.

Synopsis: The amendment removes Nina (Bermuda) Ltd. d/b/a FTD Shipping Line as a party to the agreement.

Agreement No.: 011117-037.

Title: United States/Australasia Discussion Agreement.

Parties: A.P. Moller-Maersk A/S; Australia-New Zealand Direct Line; CMA CGM, S.A.; Compagnie Maritime Marfret S.A.; Fesco Ocean Management Limited; Hamburg-Süd CP Ships USA, LLC; LLC; Safmarine Container Lines NV; and Wallenius Wilhelmsen Logistics AS.

Filing Party: Wayne R. Rohde, Esq.; Sher & Blackwell; 1850 M Street, NW.; Suite 900; Washington, DC 20036.

Synopsis: The amendment changes the name of Wallenius Wilhelmsen, updates Maersk's trade name to Maersk Line, and removes P&O Nedlloyd Limited as a party effective February 12, 2006.

Agreement No.: 011155-004.

Title: WWL/NYK Atlantic Space Charter and Cooperative Working Agreement.

Parties: Nippon Yusen Kaisha (“NYK”) and Wallenius Wilhelmsen Lines AS (“WWL”).

Filing Party: Wayne R. Rohde, Esq.; Sher & Blackwell LLP; 1850 M Street, NW.; Suite 900; Washington, DC 20036.

Synopsis: The amendment changes WWL's name to Wallenius Wilhelmsen Logistics AS and updates WWL's address.

Agreement No.: 011261-008.

Title: ACL/Wallenius Wilhelmsen Lines Agreement.

Parties: Atlantic Container Line AB and Wallenius Wilhelmsen Lines AS (“WWL”).

Filing Party: Wayne R. Rohde, Esq.; Sher & Blackwell LLP; 1850 M Street, NW.; Suite 900; Washington, DC 20036.

Synopsis: The amendment changes WWL's name to Wallenius Wilhelmsen Logistics AS and updates WWL's address.

Agreement No.: 011268-019.

Title: New Zealand/United States Discussion Agreement.

Parties: New Zealand/United States Container Lines Association; P&O Nedlloyd Limited; Hamburg-Süd; Australia-New Zealand Direct Line; FESCO Ocean Management Ltd., A.P. Moller-Maersk A/S; and CP Ships USA, LLC.

Filing Party: Wayne R. Rohde, Esq.; Sher & Blackwell, LLP; 1850 M Street, NW.; Suite 900; Washington, DC 20036.

Synopsis: The amendment removes NYKLauritzenCool AB as a party to the agreement.

Agreement No.: 011441-006.

Title: NYK/WWL Joint Service Contract Agreement.

Parties: Nippon Yusen Kaisha (“NYK”) and Wallenius Wilhelmsen Lines AS (“WWL”).

Filing Party: Wayne R. Rohde, Esq.; Sher & Blackwell LLP; 1850 M Street, NW.; Suite 900; Washington, DC 20036.

Synopsis: The amendment changes WWL's name to Wallenius Wilhelmsen Logistics AS and updates WWL's address.

Agreement No.: 011443-004.

Title: Space Charter and Cooperative Working Agreement Between NYK and WWL.

Parties: Nippon Yusen Kaisha (“NYK”) and Wallenius Wilhelmsen Lines AS (“WWL”).

Filing Party: Wayne R. Rohde, Esq.; Sher & Blackwell LLP; 1850 M Street, NW.; Suite 900; Washington, DC 20036.

Synopsis: The amendment changes WWL's name to Wallenius Wilhelmsen Logistics AS, updates WWL's address, and restates the agreement to reflect the name change throughout.

Agreement No.: 011523-005.

Title: WWL/Hoegh Autoliners Space Charter Agreement.

Parties: Hoegh Autoliners AS and Wallenius Wilhelmsen Lines AS (“WWL”).

Filing Party: Wayne R. Rohde, Esq.; Sher & Blackwell LLP; 1850 M Street, NW.; Suite 900; Washington, DC 20036.

Synopsis: The amendment changes WWL's name to Wallenius Wilhelmsen Logistics AS and updates WWL's address.

Agreement No.: 011546-003.

Title: Wallenius Wilhelmsen Lines/NYK Space Charter Agreement.

Parties: Nippon Yusen Kaisha (“NYK”) and Wallenius Wilhelmsen Lines AS (“WWL”).

Filing Party: Wayne R. Rohde, Esq.; Sher & Blackwell LLP; 1850 M Street, NW.; Suite 900; Washington, DC 20036.

Synopsis: The amendment changes WWL's name to Wallenius Wilhelmsen Logistics AS and updates WWL's address.

Agreement No.: 011591-004.

Title: EUKOR/WWL Space Charter Agreement.

Parties: EUKOR Car Carriers, Inc. (“EUKOR”) and Wallenius Wilhelmsen Lines AS (“WWL”).

Filing Party: Wayne R. Rohde, Esq.; Sher & Blackwell LLP; 1850 M Street, NW.; Suite 900; Washington, DC 20036.

Synopsis: The amendment changes WWL's name to Wallenius Wilhelmsen Logistics AS, and updates EUKOR's and WWL's addresses.

Agreement No.: 011602-006.

Title: Grand Alliance Agreement II.

Parties: Hapag-Lloyd Container Linie GmbH; Nippon Yusen Kaisha; Orient Overseas Container Line, Inc.; Orient Overseas Container Line Limited; Orient Overseas Container Line (Europe) Limited; P&O Nedlloyd Limited; and P&O Nedlloyd, B.V.

Filing Party: Wayne R. Rohde, Esq.; Sher & Blackwell; 1850 M Street, NW.; Suite 900; Washington, DC 20036.

Synopsis: The modification would add CP Ships USA, LLC and CP Ships (UK) Limited as parties to the agreement in the transpacific trades and makes technical changes to accommodate the new parties' participation in the alliance. The parties request expedited review of the modification.

Agreement No.: 011775-001.

Title: NYK/WWL South America Space Charter Agreement.

Parties: Nippon Yusen Kaisha (“NYK”) and Wallenius Wilhelmsen Lines AS (“WWL”).

Filing Party: Wayne R. Rohde, Esq.; Sher & Blackwell LLP; 1850 M Street, NW.; Suite 900; Washington, DC 20036.

Synopsis: The amendment changes WWL's name to Wallenius Wilhelmsen Logistics AS and updates WWL's address.

Agreement No.: 011820-001.

Title: WWL/WLS Space Charter Agreement.

Parties: Wallenius Wilhelmsen Lines AS (“WWL”) and World Logistics Service (U.S.A.), Inc. (“WLS”).

Filing Party: Wayne R. Rohde, Esq.; Sher & Blackwell LLP; 1850 M Street, NW.; Suite 900; Washington, DC 20036.

Synopsis: The amendment changes WWL's name to Wallenius Wilhelmsen Logistics AS and updates WWL's address.

Agreement No.: 011836-001.

Title: WWL/K-Line Americas Space Charter Agreement.

Parties: Kawasaki Kisen Kaisha, Ltd. (“K-Line”) and Wallenius Wilhelmsen Lines AS (“WWL”).

Filing Party: Wayne R. Rohde, Esq.; Sher & Blackwell LLP; 1850 M Street, NW.; Suite 900; Washington, DC 20036.

Synopsis: The amendment changes WWL's name to Wallenius Wilhelmsen Logistics AS and updates WWL's address.

Agreement No.: 011848-002.

Title: WWL/K-Line Transatlantic Space Charter Agreement.

Parties: Kawasaki Kisen Kaisha, Ltd. (“K-Line”) and Wallenius Wilhelmsen Lines AS (“WWL”).

Filing Party: Wayne R. Rohde, Esq.; Sher & Blackwell LLP; 1850 M Street, NW.; Suite 900; Washington, DC 20036.

Synopsis: The amendment changes WWL's name to Wallenius Wilhelmsen Logistics AS and updates WWL's address.

By Order of the Federal Maritime Commission.
Dated: January 6, 2006.
Karen V. Gregory,
Assistant Secretary.

[FR Doc. E6-166 Filed 1-10-06; 8:45 am]

BILLING CODE 6730-01-P